DEPARTMENT OF COMMERCE

Patent and Trademark Office

Agency Information Collection Activities; Submission to the Office of Management and Budget (OMB) for Review and Approval; Comment Request; National Medal of Technology and Innovation Nomination Application

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on February 28, 2024 during a 60-day comment period (89 FR 14636). This notice allows for an additional 30 days for public comment.

Agency: United States Patent and Trademark Office, Department of Commerce.

Title: National Medal of Technology and Innovation Nomination Application.

OMB Control Number: 0651-0060.

Needs and Uses: The National Medal of Technology and Innovation (NMTI) is the highest honor for technological achievement bestowed by the President of the United States on America's leading innovators. Established by an Act of Congress in 1980, the Medal of Technology was first awarded in 1985.¹ The Medal is awarded annually to individuals, teams (up to four individuals), companies, or divisions of companies. The Medal recognizes outstanding contributions to the nation's economic, environmental, and social well-being through the development and commercialization of technology products, processes and concepts, technological innovation, and development of the nation's technological workforce. By highlighting the national importance for technological innovation, the Medal also seeks to inspire future generations of Americans to prepare for and pursue technical careers to keep America at the forefront of global technology and economic leadership.

¹ https://www.uspto.gov/learning-and-resources/ip-programs-and-awards/national-medal-technology-and-innovation-nmti.

The National Medal of Technology and Innovation Evaluation Committee, a distinguished independent committee appointed by the Secretary of Commerce, reviews and evaluates the merit of all candidates nominated through an open, competitive solicitation process. The committee makes its recommendations for Medal candidates to the Secretary of Commerce who, in turn, makes recommendations to the President for final selection.

This information collection covers data gathered in the NMTI Nomination Application, which the public uses to nominate an individual's, team's, or company's extraordinary leadership and innovation in technological achievement and outstanding contribution to strengthening the nation's technological workforce. The application collects general and biographical information about the nominee, general information about the nominator, and a description of the nominee's contribution/achievements, and must be accompanied by up to six letters of recommendation or support from individuals who have first-hand knowledge of the cited achievement(s).

The 60-day Federal Register notice was published with the form number associated with this information collection inadvertently left off. In this notice, the USPTO has included the form number associated with this information collection.

Forms

• PTO-NMTI-1 (National Medal of Technology and Innovation Nomination Form).

Type of Review: Extension of a currently approved information collection.

Affected Public: Individuals or households.

Respondent's Obligation: Required to obtain or retain benefits.

Frequency: On occasion.

Estimated Number of Annual Respondents: 50 respondents.

Estimated Number of Annual Responses: 50 responses.

Estimated Time per Response: The USPTO estimates that the responses in this information collection will take the public approximately 40 hours to complete. This includes the time to gather the necessary information, prepare the nomination application, write the recommendations, and submit the nomination to the USPTO.

Estimated Total Annual Respondent Burden Hours: 2,000 hours.

Estimated Total Annual Respondent Non-Hourly Cost Burden: $0.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0060.

Further information can be obtained by:

• Email: InformationCollection@uspto.gov. Include “0651-0060 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2024-10658 Filed 5-14-24; 8:45 am]

BILLING CODE 3510-16-P